DEPARTMENT OF HEALTH AND HUMAN SERVICES

National Institutes of Health

National Institute of Neurological Disorders and Stroke; Amended Notice of Meeting

Notice is hereby given of a change in the meeting of the National Institute of Neurological Disorders and Stroke Special Emphasis Panel, March 2-6, 2023, National Institutes of Health, Neuroscience Center, 6001 Executive Boulevard, Rockville, MD 20852 which was published in the Federal Register on, February 06, 2023, FR Doc. 2023-02492, 86 FR 7989.

This notice is being amended to change the dates of this two-day meeting to March 6, 2023, and March 20, 2023. The meeting time remains the same. The meeting is closed to the public.

Dated: February 17, 2023.
Tyeshia M. Roberson-Curtis,
Program Analyst, Office of Federal Advisory Committee Policy.

[FR Doc. 2023-03847 Filed 2-23-23; 8:45 am]

BILLING CODE 4140-01-P